INTERNATIONAL TRADE COMMISSION

[Investigation No. 337-TA-1444]

Certain Nasal Devices and Components Thereof; Notice of Commission's Request for Written Submissions on Remedy, the Public Interest, and Bonding

AGENCY: U.S. International Trade Commission.

ACTION: Notice.

SUMMARY: Notice is hereby given that the U.S. International Trade Commission (“Commission”) requests submissions from the parties, interested government agencies, and other interested persons on the issues of remedy, the public interest, and bonding, under the schedule set forth below.

FOR FURTHER INFORMATION CONTACT: Ronald A. Traud, Esq., Office of the General Counsel, U.S. International Trade Commission, 500 E Street SW, Washington, DC 20436, telephone (202) 205-3427. Copies of non-confidential documents filed in connection with this investigation may be viewed on the Commission's electronic docket (EDIS) at https://edis.usitc.gov. For help accessing EDIS, please email EDIS3Help@usitc.gov. General information concerning the Commission may also be obtained by accessing its internet server at https://www.usitc.gov. Hearing-impaired persons are advised that information on this matter can be obtained by contacting the Commission's TDD terminal on (202) 205-1810.

SUPPLEMENTARY INFORMATION: The Commission instituted this investigation on March 26, 2025, based on a complaint filed by Aardvark Medical Inc. (“Complainant”) of Denton, Texas. 90 FR 13781-82 (Mar. 26, 2025). The complaint, as supplemented, alleges violations of section 337 of the Tariff Act of 1930, as amended, 19 U.S.C. 1337 (“section 337”), in the importation into the United States, the sale for importation, or the sale within the United States after importation of certain nasal devices and components thereof by reason of infringement of one or more claims of U.S. Patent Nos. 9,750,856; 11,318,234; 11,883,009; 11,883,010; and 11,889,995. Id. at 13781. The complaint further alleges that a domestic industry exists. Id. The Commission's notice of investigation named as respondents Xiamenximier Electronic Commerce Co., Ltd (d/b/a Cenny) (“Cenny”) of Fujian, China; Xia Men Deng Jia E-Commerce Co., Ltd. (d/b/a Ronfnea) (“Ronfnea”) of Fujian, China; Chongqing Moffy Innovation Technology Co., Ltd. (“Moffy”) of Chongqing City, China; Guangdong XINRUNTAO Technology Co., Ltd. (“Xinruntao”) and Shenzhen Jun&Liang Media Tech Limited (“Jun&Liang”) of Shenzhen, China; RhinoSystems of Brooklyn, Ohio; and Spa Sciences LP of Port St. Lucie, Florida. Id. The Office of Unfair Import Investigations is not a party to the investigation. Id.

On June 17, 2025, the Commission determined not to review an initial determination (Order No. 9) granting Complainant's motion for leave to amend the Complaint and Notice of Investigation to substitute and correct the appropriate entity from named respondent “Spa Sciences LP” to “Michael Todd Beauty LP d/b/a Spa Sciences.” Order No. 9 (May 22, 2025), unreviewed by Comm'n Notice (June 17, 2025).

On August 6, 2025, the Commission determined not to review an initial determination (Order No. 14) granting a joint motion to terminate Michael Todd Beauty LP d/b/a Spa Sciences from the investigation on the basis of settlement. Order No. 14 (July 14, 2025), unreviewed by Comm'n Notice (Aug. 6, 2025). On December 4, 2025, the Commission determined to review in part and on review affirmed an initial determination finding respondents Cenny, Ronfnea, Moffy, Xinruntao, and Jun&Liang in default. Order No. 27 (Sept. 22, 2025), reviewed in part and aff'd by Comm'n Notice (Dec. 4, 2025). On December 22, 2025, the Commission determined not to review an initial determination (Order No. 28) granting a joint motion to terminate RhinoSystems from the investigation on the basis of settlement. Order No. 28 (Dec. 4, 2025), unreviewed by Comm'n Notice (Dec. 22, 2025). Accordingly, all remaining respondents have been found in default.

On January 5, 2026, Complainant filed a declaration under Commission Rule 210.16 (19 CFR 210.16(c)), seeking immediate entry of a limited exclusion order (“LEO”) and cease and desist order (“CDO”) against each of the respondents found in default. Those respondents are (1) Cenny), (2) Ronfnea, (3) Moffy, (4) Xinruntao, and (5) Jun&Liang. No response to Complainant's declaration was received.

In connection with the final disposition of the investigation, the statute authorizes issuance of, inter alia, (1) an exclusion order that could result in the exclusion of the subject articles from entry into the United States; and/or (2) cease and desist orders that could result in the respondents being required to cease and desist from engaging in unfair acts in the importation and sale of such articles. Accordingly, the Commission is interested in receiving written submissions that address the form of remedy, if any, that should be ordered. If a party seeks exclusion of an article from entry into the United States for purposes other than entry for consumption, the party should so indicate and provide information establishing that activities involving other types of entry either are adversely affecting it or likely to do so. For background, see Certain Devices for Connecting Computers via Telephone Lines, Inv. No. 337-TA-360, USITC Pub. No. 2843, Comm'n Op. at 7-10 (Dec. 1994).

The statute requires the Commission to consider the effects of that remedy upon the public interest. The public interest factors the Commission will consider include the effect that an exclusion order would have on: (1) the public health and welfare, (2) competitive conditions in the U.S. economy, (3) U.S. production of articles that are like or directly competitive with those that are subject to investigation, and (4) U.S. consumers. The Commission is therefore interested in receiving written submissions that address the aforementioned public interest factors in the context of the investigation.

If the Commission orders some form of remedy, the U.S. Trade Representative, as delegated by the President, has 60 days to approve, disapprove, or take no action on the Commission's determination. See Presidential Memorandum of July 21, 2005, 70 FR 43251 (July 26, 2005). During this period, the subject articles would be entitled to enter the United States under bond, in an amount determined by the Commission and prescribed by the Secretary of the Treasury. The Commission is therefore interested in receiving submissions concerning the amount of the bond that should be imposed if a remedy is ordered.

Written Submissions: Parties to the investigation, interested government agencies, and any other interested parties are encouraged to file written submissions on the issues of remedy, the public interest, and bonding.

In its initial submission, Complainant is requested to identify the remedy sought and to submit proposed remedial orders for the Commission's consideration. Complainant is further requested to state the date that the asserted patents expire, to provide the HTSUS subheadings under which the accused products are imported, and to supply the identification information for all known importers of the products at issue in the investigation. The initial written submissions and proposed remedial orders must be filed no later than close of business on January 29, 2026. Reply submissions must be filed no later than the close of business on February 5, 2026. No further submissions on these issues will be permitted unless otherwise ordered by the Commission.

Persons filing written submissions must file the original document electronically on or before the deadlines stated above pursuant to 19 CFR 210.4(f). Submissions should refer to the investigation number (“Inv. No. 337-TA-1444”) in a prominent place on the cover page and/or the first page. (See Handbook for Electronic Filing Procedures, https://www.usitc.gov/documents/handbook_on_filing_procedures.pdf). Persons with questions regarding filing should contact the Secretary, (202) 205-2000.

Any person desiring to submit a document to the Commission in confidence must request confidential treatment by marking each document with a header indicating that the document contains confidential information. This marking will be deemed to satisfy the request procedure set forth in Rules 201.6(b) and 210.5(e)(2) (19 CFR 201.6(b) & 210.5(e)(2)). Documents for which confidential treatment by the Commission is properly sought will be treated accordingly. Any non-party wishing to submit comments containing confidential information must serve those comments on the parties to the investigation pursuant to the applicable Administrative Protective Order. A redacted non-confidential version of the document must also be filed with the Commission and served on any parties to the investigation within two business days of any confidential filing. All information, including confidential business information and documents for which confidential treatment is properly sought, submitted to the Commission for purposes of the investigation may be disclosed to and used: (i) by the Commission, its employees and Offices, and contract personnel (a) for developing or maintaining the records of this or a related proceeding, or (b) in internal investigations, audits, reviews, and evaluations relating to the programs, personnel, and operations of the Commission including under 5 U.S.C. Appendix 3; or (ii) by U.S. government employees and contract personnel, solely for cybersecurity purposes. All contract personnel will sign appropriate nondisclosure agreements. All nonconfidential written submissions will be available for public inspection on EDIS.

The Commission vote for this determination took place on January 14, 2026.

The authority for the Commission's determination is contained in section 337 of the Tariff Act of 1930, as amended (19 U.S.C. 1337), and in Part 210 of the Commission's Rules of Practice and Procedure (19 CFR part 210).

By order of the Commission.
Issued: January 15, 2026.
Lisa Barton,
Secretary to the Commission.

[FR Doc. 2026-00955 Filed 1-16-26; 8:45 am]

BILLING CODE 7020-02-P